RAILROAD RETIREMENT BOARD

Proposed Collection; Comment Request

SUMMARY: In accordance with the requirement of Section 3506 (c)(2)(A) of the Paperwork Reduction Act of 1995, which provides opportunity for public comment on new or revised data collections, the Railroad Retirement Board (RRB) publishes periodic summaries of proposed data collections.

Comments are invited on: (a) Whether the proposed information collection is necessary for the proper performance of the functions of the agency, including whether the information has practical utility; (b) the accuracy of the RRB's estimate of the burden of the collection of the information; (c) ways to enhance the quality, utility,and clarity of the information to be collected; and (d) ways to minimize the burden related to the collection of information on respondents, including the use of automated collection techniques or other forms of information technology.

Title and purpose of information collection: Application for Hospital Insurance Benefits; OMB 3220-0082. Under Section 7(d) of the Railroad Retirement Act (RRA), the Railroad Retirement Board (RRB) administers the Medicare program for persons covered by the railroad retirement system. The RRB currently uses Form AA-6, Employee Application for Medicare; Form AA-7, Spouse/Divorced Spouse Application For Medicare; and Form AA-8, Widow/Widower Application for Medicare; to obtain the information needed to determine whether individuals who have not yet filed for benefits under the RRA are qualified for Medicare payments provided under Title XVIII of the Social Security Act. Completion is required to obtain a benefit. One response is requested of each respondent. The RRB proposes minor editorial changes to Forms AA-6, AA-7 and AA-8. The RRB estimates that 180 Form AA-6's, 50 Form AA-7's, and 10 Form AA-8's are completed annually. The completion time for each form is estimated at 8 minutes.

The renewal of this information collection will begin the RRB's initiative to consolidate information collections by major functional areas. The purpose of the initiative is to bring related collection instruments together in one collection, better manage the instruments, and prepare for the electronic collection of this information. (A collection instrument can be an individual form, electronic collection, interview, or any other method that collects specific information from the public.)

As part of the OMB renewal process, the RRB also proposes that this collection (OMB 3220-0082), Application for Hospital Insurance Benefits, be renamed Medicare. Upon approval by OMB, the RRB intends to merge the following OMB approved Medicare-related collections into this collection by the expected expiration date(s).

OMB Collection No. | Title | RRB forms | Expected expiration date
3220-0189 | Evidence of Coverage Under an Employer Group Health Plan | RL-311-F | 9/30/2001
3220-0185 | Report of Medicaid State Office on Beneficiary's Buy-In Status | RL-380F | 7/31/2002
3220-0086 | Application for Reimbursement for Hospital Insurance Services in Canada | AA-104 | 7/31/2002
3220-0131 | Request for Medicare Payment | G-740S HCFA-1500 | 8/31/2002
3220-0100 | Request for Review of Part B Medicare Claim | G-790 G-791 | 11/30/2002.

Revisions to existing collection instruments and, occasionally, a new instrument related to this program function may be required during the three-year cycle of this information collection.

The RRB currently estimates the completion time for Form RL-311-F, Evidence of Coverage Under an Employer Group Health Plan at 10 minutes, Form RL-380F, Report of Problem to State Welfare Agency on Enrollees Medicare Status at 10 minutes, Form AA-104, Application for Reimbursement for Hospital Insurance Services in Canada at 10 minutes, Form G-740S, Patient's Request for Medicare Payment at 15 minutes, Form G-790, Request for Review of Part B Medicare Claim at 15 minutes, and Form G-791, Request for Hearing, Part B Medicare Claim at 15 minutes. After the last information collection is merged and other necessary adjustments are made, the resultant information collection is expected to total approximately 1,500 annual burden hours.

A justification for each action described above (merge collection, revised collection instrument, new collection instrument) will be provided to OMB with a correction Change Worksheet (OMB Form 83-C) at the time the action occurs. With the next renewal of this collection, the RRB will update the information collection package to account for the consolidation and other interim adjustments.

ADDITIONAL INFORMATION OR COMMENTS: To request more information or to obtain a copy of the information collection justification, forms, and/or supporting material, please call the RRB Clearance Officer at (312) 751-3363. Comments regarding the information collection should be addressed to Ronald J. Hodapp, Railroad Retirement Board, 844 North Rush Street, Chicago, Illinois 60611-2092. Written comments should be received within 60 days of this notice.

Chuck Mierzwa,
Clearance Officer.

[FR Doc. 00-6538 Filed 3-15-00; 8:45 am]

BILLING CODE 7905-01-M